DEPARTMENT OF DEFENSE

Department of the Navy

Notice of Availability of Record of Decision for the Swimmer Interdiction Security System

AGENCY: Department of the Navy, DoD.

ACTION: Notice.

SUMMARY: The Department of the Navy (Navy), after carefully weighing the operational and environmental consequences of the proposed action, announces its decision to construct and operate a Swimmer Interdiction Security System at Naval Base Kitsap-Bangor, Washington to find, identify, and interdict surface and underwater intruders for engagement by harbor security forces, in furtherance of the Navy's statutory obligations under Title 10 of the United States Code governing the roles and responsibilities of the Navy. In its decision, the Navy considered applicable laws and executive orders, including an analysis of the effects of its actions in compliance with the Endangered Species Act, the Coastal Zone Management Act, and the National Historic Preservation Act, and the requirements of Executive Order (EO) 12898, Federal Actions to Address Environmental Justice in Minority Populations and Low Income Populations and EO 13045, Protection of Children from Environmental Health Risks and Safety Risks.

The proposed action will be accomplished as set out in Alternative 1, described in the Final Environmental Impact Statement (FEIS) as the preferred alternative. Implementation of the preferred alternative could begin immediately.

SUPPLEMENTARY INFORMATION: The Record of Decision (ROD) has been distributed to all those individuals who requested a copy of the FEIS and agencies and organizations that received a copy of the FEIS. The complete text of the Navy's ROD is available for public viewing on the project Web site at http://www.nbkeis.gcsaic.com along with copies of the FEIS and supporting documents. Single copies of the ROD will be made available upon request by contacting Ms. Shannon Kasa, 619-553-3889.

Dated: November 16, 2009.
A.M. Vallandingham,
Lieutenant Commander, Judge Advocate General's Corps, U.S. Navy, Federal Register Liaison Officer.

[FR Doc. E9-27959 Filed 11-19-09; 8:45 am]

BILLING CODE 3810-FF-P